DEPARTMENT OF TRANSPORTATION

Federal Aviation Administration

14 CFR Part 71

[Docket No. FAA-2014-1112; Airspace Docket No. 14-ANM-16]

RIN 2120-AA66

Amendment of VOR Federal Airway V-330 in the Vicinity of Mountain Home, Idaho

AGENCY: Federal Aviation Administration (FAA), DOT.

ACTION: Final rule, technical amendment.

SUMMARY: This action amends VHF Omnidirectional Range (VOR) Federal Airway V-330 in the vicinity of Mountain Home, ID. The FAA is taking this action to correct the V-330 description contained in Part 71 to ensure it matches the information contained in the FAA's aeronautical database, matches the depiction on the associated charts, and promotes safety and efficiency within the National Airspace System (NAS).

DATES: Effective date 0901 UTC, April 30, 2015. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call (202) 741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: (202) 267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

After a recent review of aeronautical data, the legal description for V-330 published in FAA Order 7400.9Y, Airspace Designations and Reporting Points, did not match the airway information contained in the FAA's aeronautical database or the charted depiction of the airway. In 2004, the FAA received a request from the U.S. Air Force to change the name and identifier of the Mountain Home, ID, VOR due to safety of flight concerns. At that time, Mountain Home Air Force Base (AFB), an on-base Tactical Air Navigation (TACAN) navigation aid (NAVAID), and a VOR located 5.5 nautical miles (NM) off-base all shared the same Mountain Home name and MUO identifier.

An event involving a KC-135 aircraft navigating to conduct aerial refueling (AR) activities highlighted the potential flight safety issue. While navigating to one of the AR tracks south of Mountain Home AFB, the flight crew entered “MUO” as the reference fix. The flight computer indicated two fixes identified as MUO. The crew, not familiar with the area, spent considerable time determining which NAVAID to use. As a result of this hazard to navigation and flight safety issue of having two navigation aids located 5.5 NM apart with the same name and identifier, the USAF requested the Mountain Home VOR (MUO) be renamed Liberator VOR with a new identifier of LTR.

In response, the FAA amended the aeronautical database information changing the Mountain Home VOR name to Liberator VOR and changing the MUO identifier to LIA, in lieu of LTR, effective September 30, 2004. The associated charts were published with the amended information, but the rulemaking action to amend the V-330 legal description to reflect the amendment was inadvertently overlooked at that time.

To overcome confusion and flight safety issues associated with the conflicting published V-330 airway description, the FAA is amending the legal description to reflect the Mountain Home VOR name change to Liberator VOR. Since this is an administrative correction to update the V-330 description to be in concert with the FAA's aeronautical database and charting, notice and public procedure under Title 5 U.S.C. 553(b) are unnecessary.

VOR Federal airways are listed in paragraph 6010 of FAA Order 7400.9Y dated August 6, 2014, and effective September 15, 2014, which is incorporated by reference in 14 CFR 71.1. The VOR Federal airway listed in this document will be revised subsequently in the Order.

Availability and Summary of Documents for Incorporation by Reference

This document amends FAA Order 7400.9Y, airspace Designations and Reporting Points, dated August 6, 2014, and effective September 15, 2014. FAA Order 7400.9Y is publicly available as listed in the ADDRESSES section of this final rule. FAA Order 7400.9Y lists Class A, B, C, D, and E airspace areas, air traffic service routes, and reporting points.

The Rule

The FAA amends Title 14 Code of Federal Regulations (14 CFR) part 71 by modifying the legal description of VOR Federal airway V-330 in the vicinity of Mountain Home, ID. Specifically, the FAA amends V-330, renaming the Mountain Home, ID, VOR to reflect the Liberator, ID, VOR; thus, matching the information currently contained in the FAA's aeronautical database and the charted depiction of the airway.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends an existing VOR Federal airway within the NAS.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 6010 VOR Federal Airways

(a) Domestic VOR Federal airways.

* * * * *

V-330

From Wildhorse, OR; Boise, ID; INT Boise 130° and Liberator, ID, 084° radials; to INT Liberator 084° and Burley, ID, 323° radials. From Idaho Falls, ID; Jackson, WY; Dunoir, WY; Riverton, WY; to Muddy Mountain, WY.

Issued in Washington, DC, February 6, 2015.
Gary A. Norek,
Manager, Airspace Policy and Regulations Group.

[FR Doc. 2015-03062 Filed 2-13-15; 8:45 am]

BILLING CODE 4910-13-P